DEPARTMENT OF THE INTERIOR

Fish and Wildlife Service

Notice of Availability for the Revised Draft Comprehensive Conservation Plan and Environmental Assessment for the Necedah National Wildlife Refuge located in Juneau and Wood Counties, WI

AGENCY: Fish and Wildlife Service, Interior.

ACTION: Notice of availability.

SUMMARY: This notice advises the public that the Fish and Wildlife Service (Service) intends to release for public review and comment a revised Draft Comprehensive Conservation Plan and associated Environmental Assessment for the Necedah National Wildlife Refuge. The Service is furnishing this notice in compliance with Service comprehensive conservation plan policy guidance and in implementing regulations to achieve the following:

(1) Advise other agencies and the public of our intentions, and

(2) Obtain comments on the content and conclusion reached in the revised Comprehensive Conservation Plan and associated Environmental Assessment.

DATES: Written comments must be received by November 20, 2001. All comments should be addressed to Larry Wargowsky, Project Leader, Necedah National Wildlife Refuge, W7996 20th Street West, Necedah, WI 54646. Written comments may also be submitted through the Service's regional website at: http://midwest.fws.gov/planning/necedahtop.htm.

FOR FURTHER INFORMATION CONTACT: Larry Wargowsky, Project Leader, Necedah National Wildlife Refuge, W7996 20th Street West, Necedah, WI 54646. Telephone: (608) 565-2551.

SUPPLEMENTARY INFORMATION: Necedah National Wildlife Refuge was established in 1939 as a refuge and breeding ground for migratory birds and for use as an inviolate sanctuary for migratory birds. Located in central Wisconsin, the Refuge includes 43,696 acres consisting of wetlands and open water areas, pine, oak, and aspen forests, grasslands, and rare savannas. It is Service policy to have all lands within the National Wildlife Refuge System, and address significant internal and external needs and issues identified during the scoping and public involvement process. The Service has provided many opportunities for public input into this planning process and will continue to seek public comment.

Subsequent to the release of the previous Draft Comprehensive Conservation Plan and associated Environmental Assessment, substantive modifications and/or changes have been incorporated into the plan. They include:

• Incorporation of the Refuge's Fire Management Plan

• Incorporation of elements of the Refuge's Whooping Crane reintroduction project

• Incorporation of a third alternative to the Environmental Assessment

• Clarification of the proposed new Refuge Visitor Center

• Incorporation of the Biological Opinion prepared for the CCP.

Dated: September 26, 2001.
Marvin E. Moriarty,
Acting Regional Director.

[FR Doc. 01-26098 Filed 10-16-01; 8:45 am]

BILLING CODE 4310-55-M